FARM CREDIT ADMINISTRATION

Farm Credit Administration Board; Sunshine Act; Regular Meeting

AGENCY: Farm Credit Administration.

SUMMARY: Notice is hereby given, pursuant to the Government in the Sunshine Act (5 U.S.C. 552b(e)(3)), that the February 11, 2010 regular meeting (75 FR 6393, February 9, 2010) of the Farm Credit Administration Board (Board) has been rescheduled due to the recent inclement weather in the Washington DC metropolitan area.

Date and Time: The regular meeting of the Board will now be held at the offices of the Farm Credit Administration in McLean, Virginia, on February 24, 2010, from 9 a.m. until such time as the Board concludes its business.

FOR FURTHER INFORMATION CONTACT: Roland E. Smith, Secretary to the Farm Credit Administration Board, (703) 883-4009, TTY (703) 883-4056.

ADDRESSES: Farm Credit Administration, 1501 Farm Credit Drive, McLean, Virginia 22102-5090.

SUPPLEMENTARY INFORMATION: This meeting of the Board will be open to the public (limited space available). In order to increase the accessibility to Board meetings, persons requiring assistance should make arrangements in advance. Two of the three agenda items have been removed for this rescheduled meeting. The matter to be considered at the meeting is:

Open Session

• Approval of Minutes

○ January 14, 2010

Dated: February 16, 2010.
Roland E. Smith,
Secretary, Farm Credit Administration Board.

[FR Doc. 2010-3356 Filed 2-17-10; 4:15 pm]

BILLING CODE 6705-01-P